DEPARTMENT OF JUSTICE

[AAG/A Order No. 268-2002]

Privacy Act of 1974; Notice of the Removal of Two Systems of Records

Pursuant to the provisions of the Privacy Act of 1974 (5 U.S.C. 552a), the Department of Justice (DOJ) is removing two published Privacy Act systems of records: the Justice Management Division's (JMD) “Accounting System for the Offices, Boards and Divisions and the United States Marshals Service, JUSTICE/JMD-007;” and the Office of Justice Programs' (OJP) “Financial Management System, JUSTICE/OJP-005.”

The reasons for the removal of these two systems of records is that a Department-wide system, entitled “Accounting Systems for the Department of Justice, DOJ-001”, published May 28, 1999 at 64 FR 29069, replaced systems which existed for separate Department components. DOJ-001 also included new disclosure provisions. As a result, it is no longer necessary to maintain these two systems of records. Therefore, the “Accounting System for the Offices, Boards and Divisions and the United States Marshals Service,” last published in the Federal Register on October 17, 1988 at 53 FR 40527, are removed from the Department's compilation of Privacy Act systems.

Dated: May 30, 2002.
Robert F. Diegelman,
Acting Assistant Attorney General for Administration.

[FR Doc. 02-14400 Filed 6-7-02; 8:45 am]

BILLING CODE 4410-CP-M